FEDERAL COMMUNICATIONS COMMISSION

47 CFR Part 73

[DA 00-831; MM Docket No. 99-282; RM-9710]

Radio Broadcasting Services; Littlefield, AZ

AGENCY: Federal Communications Commission.

ACTION: Proposed rule; denial.

SUMMARY: This document denies a petition for rule making filed by Mountain West Broadcasting proposing the allotment of FM Channel 265C to Littlefield, Arizona, as a first local aural transmission service, for failure to establish that locality is a bona fide community for allotment purposes. See 64 FR 51286, September 22, 1999. With this action, the proceeding is terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-282, adopted April 5, 2000, and released April 14, 2000 . The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, D.C. 20036, (202) 857-3800.

List of Subjects in 47 CFR Part 73

Radio broadcasting.

Federal Communications Commission.
John A. Karousos,
Chief, Allocations Branch, Policy and Rules Division, Mass Media Bureau.

[FR Doc. 00-10756 Filed 5-1-00; 8:45 am]

BILLING CODE 6712-01-P